DEPARTMENT OF ENERGY

Federal Energy Regulatory Commission

Notice of Application for Amendment of License and Soliciting Comments, Motions To Intervene, and Protests

November 5, 2004.

Take notice that the following application has been filed with the Commission and is available for public inspection:

a. Application Type: Amendment of license to decrease the authorized installed capacity.

b. Project No.: 2305-019.

c. Date Filed: August 22, 2003.

d. Applicant: Sabine River Authority of Texas and Sabine River Authority, State of Louisiana.

e. Name of Project: Toledo Bend Project.

f. Location: The project is located on the Sabine River in Newton County in Texas, and in Sabine Parish in Louisiana.

g. Filed Pursuant to: Federal Power Act, 16 U.S.C. 791a-825r.

h. Applicant Contact: Jim Washburn, Sabine River Authority of Texas and Sabine River Authority, State of Louisiana, Route 1, Box 270, Burkeville, Texas 75932, (409) 565-2273.

i. FERC Contact: Any questions on this notice should be addressed to Mr. Jake Tung at (202) 502-8757, or e-mail address: hong.tung@ferc.gov.

j. Deadline for Filing Comments and or Motions: December 6, 2004.

k. Description of Request: Sabine River Authority of Texas and Sabine River Authority, State of Louisiana, licensee, filed an application to amend the license to decrease the authorized capacity of the project. The licensee is proposing to not install the authorized 750 kW mini-hydro power facility in the spillway. The original license was issued in October 1963 and amended in 1986 for the addition of a mini-hydro power facility in the spillway to utilize minimum flow releases. The licensee stated that it has made a good faith effort to initiate construction of the spillway mini-hydro power project, however, it has been unable to market the power at a profitable rate. The licensee will continue to comply with the project's continuous minimum flow requirement of 144 cfs.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, or “MOTION TO INTERVENE”, as applicable, and the Project Number of the particular application to which the filing refers. All documents (original and eight copies) should be filed with: Magalie R. Salas, Secretary, Federal Energy Regulatory Commission, 888 First Street, NE., Washington, DC 20426. A copy of any motion to intervene must also be served upon each representative of the Applicant specified in the particular application.

p. Agency Comments—Federal, State, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See 18 CFR 385.2001(a)(1)(iii) and the instructions on the Commission's Web site at http://www.ferc.gov under the “e-Filing” link.

Magalie R. Salas,
Secretary.

[FR Doc. E4-3213 Filed 11-17-04; 8:45 am]

BILLING CODE 6717-01-P